DEPARTMENT OF HOMELAND SECURITY

Federal Emergency Management Agency

[Docket ID: FEMA-2024-0005; OMB No. 1660-0017]

Agency Information Collection Activities: Proposed Collection; Comment Request; Public Assistance Program

AGENCY: Federal Emergency Management Agency, Department of Homeland Security.

ACTION: 30-Day notice of revision and request for comments.

SUMMARY: The Federal Emergency Management Agency (FEMA), as part of its continuing effort to reduce paperwork and respondent burden, invites the general public to take this opportunity to comment on a revision of a currently approved information collection. In accordance with the Paperwork Reduction Act of 1995, this notice seeks comments concerning a revision of an instrument for the Public Assistance (PA) program eligibility determinations, grants management, and compliance with Federal laws and regulations.

DATES: Comments must be submitted on or before June 17, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Rachel Hildebrand, Public Assistance Program Delivery Branch, Rachel.Hildebrand@fema.dhs.gov or 202-646-3484. You may contact the Information Management Division for copies of the proposed collection of information at email address: FEMA-Information-Collections-Management@fema.dhs.gov.

SUPPLEMENTARY INFORMATION: The Robert T. Stafford Disaster Relief and Emergency Assistance Act, 42 U.S.C. 5121-5207 (the Stafford Act), authorizes grants to assist State, local, Tribal, and territorial governments and certain private nonprofit entities with the response to and recovery from disasters following Presidentially declared major disasters and emergencies. 44 CFR part 206 specifies the information collections necessary to facilitate the provision of assistance under the PA Program. 44 CFR 206.202 describes the general application procedures for the PA Program. FEMA revised FEMA Form FF-104-FY-21-238, Pre-Approval Request to support survivors in non-congregate shelters and it was approved by the Office of Management and Budget (OMB) under an emergency request.

This proposed information collection previously published in the Federal Register on Jan. 31, 2024, at 89 FR 6123 with a 60-day public comment period. FEMA received ten public comments. Two public comments were not relevant to this collection. Five State agencies (Florida, Iowa, Ohio, Missouri and South Dakota) provided detailed comments and proposed revisions. After public comment, language was refined to enhance the customer experience and understanding of the question. Policy related suggestions were referred to the policy team for review and consideration.

Three individuals provided detailed comments and proposed revisions. Some comments were not germane to the collection. Other comments proposing elimination of questions were reviewed and accepted as the information is not necessary and removal reduced the burden on the applicant. The purpose of this notice is to inform the public that FEMA will submit the information collection abstracted below to the Office of Management and Budget for review and clearance.

To assist the public's review of this revision, the proposed versions of all instruments in this collection will be available on FEMA's public-facing website at https://www.fema.gov/event/integrated-public-assistance-application-ipa-public-comment-period.

Collection of Information

Title: Public Assistance Program.

Type of Information Collection: Revision of a currently approved information collection.

OMB Number: 1660-0017.

FEMA Forms: FEMA Form FF-104-FY-22-233, Organization Profile; FEMA Form FF-104-FY-22-234, Recipient Incident Information; FEMA Form FF-104-FY-21-131 (formerly 009-0-49), Request for Public Assistance; FEMA Form FF-104-FY-22-235, Applicant Impact Survey; FEMA Form FF-104-FY-22-238, Pre-Approval Request; FEMA Form FF-104-FY-22-236, Impact List; FEMA Form FF-104-FY-22-239, Project Application for Debris Removal; FEMA Form FF-104-FY-22-240, Project Application for Emergency Protective Measures; FEMA Form FF-104-FY-22-242, Project Application for Infrastructure Restoration; FEMA Form FF-104-FY-22-243, Project Application for Building Code and Floodplain Administration and Enforcement; FEMA Form FF-104-FY-22-244, Project Application for Management Costs; FEMA Form FF-104-FY-22-245, Damage Information; FEMA Form FF-104-FY-22-241, Project Application for COVID-19; FEMA Form FF-104-FY-21-137 (formerly FF 009-0-123), Force Account Labor Summary Record; FEMA Form FF-104-FY-21-135 (formerly FF 009-0-128), Applicant's Benefits Calculation Worksheet; FEMA Form FF-104-FY-21-141 (formerly FF 009-0-127), Force Account Equipment Summary Record; FEMA Form FF-104-FY-21-138 (formerly FF 009-0-124), Materials Summary Record; FEMA Form FF-104-FY-21-139 (formerly FF 009-0-125), Rented Equipment Summary; FEMA Form FF-104-FY-21-140 (formerly FF 009-0-126), Contract Work Summary; FEMA Form FF-104-FY-22-237, Donated Labor Sign-in; FEMA Form FF-104-FY-21-132 (formerly FEMA Form 009-0-111), Quarterly Progress Reports; FEMA Form FF-104-FY-22-248, Time Extension; FEMA Form FF-104-FY-22-249, State Administrative Plan; FEMA Form FF-104-FY-21-250, Tribal Administrative Plan; Request for Appeals or Arbitrations; Request for Arbitration resulting from Hurricanes Katrina or Rita; and FEMA Template FT-104-FY-21-100, Equitable COVID-19 Response and Recovery: Vaccine Administration Information.

Abstract: The information collected is required for the Public Assistance Program eligibility determinations, grants management, and compliance with other Federal laws and regulations. The Stafford authorizes grants to assist State, local, Tribal, and territorial governments and certain private nonprofit entities with the response to and recovery from disasters following Presidentially declared major disasters and emergencies.

Affected Public: State, local, Tribal and territorial Governments; Private Sector: Non-profits.

Estimated Number of Respondents: 1,505.

Estimated Number of Responses: 635,269.

Estimated Total Annual Burden Hours: 341,635.

Estimated Total Annual Respondent Cost: $21,697,240.

Estimated Respondents' Operation and Maintenance Costs: 0.

Estimated Respondents' Capital and Start-Up Costs: 0.

Estimated Total Annual Cost to the Federal Government: $2,053,221.

Comments

Comments may be submitted as indicated in the ADDRESSES caption above. Comments are solicited to (a) evaluate whether the proposed data collection is necessary for the proper performance of the Agency, including whether the information shall have practical utility; (b) evaluate the accuracy of the Agency's estimate of the burden of the proposed collection of information, including the validity of the methodology and assumptions used; (c) enhance the quality, utility, and clarity of the information to be collected; and (d) minimize the burden of the collection of information on those who are to respond, including through the use of appropriate automated, electronic, mechanical or other technological collection techniques or other forms of information technology, e.g., permitting electronic submission of responses.

Millicent Brown Wilson,
Records Management Branch Chief, Office of the Chief Administrative Officer, Mission Support, Federal Emergency Management Agency, Department of Homeland Security.

[FR Doc. 2024-10781 Filed 5-15-24; 8:45 am]

BILLING CODE 9111-24-P